DEPARTMENT OF AGRICULTURE

Animal and Plant Health Inspection Service

[Docket No. APHIS-2010-0016]

Notice of Request for Extension of Approval of an Information Collection; Brucellosis in Sheep, Goats, and Horses; Payment of Indemnity

AGENCY: Animal and Plant Health Inspection Service, USDA.

ACTION: Extension of approval of an information collection; comment request.

SUMMARY: In accordance with the Paperwork Reduction Act of 1995, this notice announces the Animal and Plant Health Inspection Service’s intention to request an extension of approval of an information collection associated with regulations for the payment of indemnity for sheep, goats, and horses destroyed because of brucellosis.

DATES: We will consider all comments that we receive on or before August 3, 2010.

ADDRESSES: You may submit comments by either of the following methods:

• Federal eRulemaking Portal: Go to (http://www.regulations.gov/fdmspublic/component/main?main=DocketDetail&d=APHIS-2010-0016) to submit or view comments and to view supporting and related materials available electronically.

• Postal Mail/Commercial Delivery: Please send one copy of your comment to Docket No. APHIS-2010-0016, Regulatory Analysis and Development, PPD, APHIS, Station 3A-03.8, 4700, River Road Unit 118, Riverdale, MD 20737-1238. Please state that your comment refers to Docket No. APHIS-2010-0016.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on regulations for the payment of indemnity for sheep, goats, and horses destroyed because of brucellosis, contact Dr. Debra Donch, Brucellosis Program Manager, Ruminant Health Programs, VS, APHIS, 4700 River Road Unit 43, Riverdale, MD 20737; (301) 734-5952. For copies of more detailed information on the information collection, contact Mrs. Celeste Sickles, APHIS’ Information Collection Coordinator, at (301) 851-2908.

SUPPLEMENTARY INFORMATION:

Title: Brucellosis in Sheep, Goats, and Horses; Payment of Indemnity.

OMB Number: 0579-0185.

Type of Request: Extension of approval of an information collection.

Abstract: Under the Animal Health Protection Act (7 U.S.C. 8301 et seq.), the Animal and Plant Health Inspection Service of the United States Department of Agriculture is authorized, among other things, to prohibit or restrict the importation and interstate movement of animals and animal products to prevent the introduction into and dissemination within the United States of animal diseases and pests and for eradicating such diseases when feasible.

Brucellosis is a contagious disease caused by bacteria of the genus Brucella that primarily affects cattle, bison, and swine. It causes the loss of young through spontaneous abortion or birth of weak offspring, reduced milk production, and infertility. The continued presence of brucellosis seriously threatens the health of other animals. Goats, sheep, and horses are also susceptible to B. abortus. In horses, the disease is known as fistulous withers. A third strain of Brucella, B. melitensis, affects mainly goats and sheep.

The regulations in 9 CFR part 51 include an indemnity program for sheep, goats, and horses that must be destroyed because of brucellosis. This indemnity program, which is similar to our indemnity program for cattle and bison, is voluntary and was designed to give producers an incentive to cooperate and assist our ongoing program to eradicate brucellosis in the United States.

The indemnity program for the voluntary depopulation of herds of goats, flocks of sheep, and mixed herds of goats and sheep affected with brucellosis, and individual horses infected with brucellosis involves the use of a number of information collection activities, including the completion of indemnity claims (Veterinary Services (VS) Form 1-23), test records (VS Form 4-33), and permits (VS Form 1-27); the use of official seals and animal identification; the submission of proof of destruction and requests for extension of certain program-related deadlines.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.6666 hours per response.

Respondents: Eligible owners of sheep, goats, and horses and materials destroyed and claimants for which compensation is sought under the brucellosis indemnity program; and State and accredited veterinarians.

Estimated annual number of respondents: 3.

Estimated annual number of responses per respondent: 4.

Estimated annual number of responses: 12.

Estimated total annual burden on respondents: 8 hours. (Due to averaging, the total annual burden hours may not equal the product of the annual number of responses multiplied by the reporting burden per response.)

All responses to this notice will be summarized and included in the request for OMB approval. All comments will also become a matter of public record.

Done in Washington, DC, this 28th day of May 2010.

Kevin Shea
Acting Administrator, Animal and Plant Health Inspection Service.

[FR Doc. 2010-13450 Filed 6-3-10: 8:45 am]

BILLING CODE: 3410-34-S